SECURITIES AND EXCHANGE COMMISSION

In the Matter of Zhong Wen International Holding Co., Ltd.; Order of Suspension of Trading

December 29, 2015.

It appears to the Securities and Exchange Commission (“Commission”) that there is a lack of current and accurate information concerning the securities of Zhong Wen International Holding Co., Ltd. (“ZWIH ¹”) (CIK No. 1494502), a void Delaware corporation whose principal place of business is listed as Qingzhou, Shandong, China because it is delinquent in its periodic filings with the Commission, having not filed any periodic reports since it filed a Form 10-Q for the period ended September 30, 2012. On February 19, 2015, the Commission's Division of Corporation Finance sent a delinquency letter to ZWIH at the address shown in its then-most recent filing in the Commission's EDGAR system requesting compliance with its periodic filing requirements. To date, ZWIH has failed to cure its delinquencies. As of December 15, 2015, the common stock of ZWIH was quoted on OTC Link operated by OTC Markets Group, Inc. (formerly “Pink Sheets”) had three market makers and was eligible for the “piggyback” exception of Exchange Act Rule 15c2-11(f)(3).

¹ The short form of the issuer's name is also its ticker symbol.

The Commission is of the opinion that the public interest and the protection of investors require a suspension of trading in the securities of the above-listed company. Therefore, it is ordered, pursuant to Section 12(k) of the Securities Exchange Act of 1934, that trading in the securities of the above-listed company is suspended for the period from 9:30 a.m. EST on December 29, 2015, through 11:59 p.m. EST on January 12, 2016.

By the Commission.
Jill M. Peterson,
Assistant Secretary.

[FR Doc. 2015-33028 Filed 12-31-15; 8:45 am]

BILLING CODE 8011-01-P